DEPARTMENT OF COMMERCE

15 CFR Chapter VII

[Docket Number: 210617-0132]

RIN 0605-XD009

Rescission of Identification of Prohibited Transactions With Respect to TikTok and WeChat

AGENCY: Office of the Secretary, U.S. Department of Commerce.

ACTION: Identification of Prohibited Transactions; notification of rescission.

SUMMARY: Pursuant to Executive Order 14034 of June 9, 2021 (Protecting Americans' Sensitive Data from Foreign Adversaries), this document confirms that the Secretary of Commerce has rescinded two actions issued under now-revoked Executive Orders: The September 18, 2020 Identification of Prohibited Transactions related to TikTok, published on September 24, 2020, and the September 18, 2020 Identification of Prohibited Transactions related to WeChat filed for public inspection on September 18, 2020 and withdrawn before publication.

DATES: This rescission was effective June 16, 2021. Effective June 23, 2021, the Department withdraws the Identification of Prohibited Transactions published at 85 FR 60061 on September 24, 2020.

FOR FURTHER INFORMATION CONTACT:

John Gifft, U.S. Department of Commerce; email: supplychainrules@doc.gov; telephone: (202) 482-2617.

For media inquiries: Brittany Caplin, Deputy Director of Public Affairs and Press Secretary, U.S. Department of Commerce; telephone: (202) 482-4883; email: PublicAffairs@doc.gov.

SUPPLEMENTARY INFORMATION: Executive Order 13942 of August 6, 2020, “Addressing the Threat Posed by TikTok, and Taking Additional Steps to Address the National Emergency With Respect to the Information and Communications Technology and Services Supply Chain”, (85 FR 48637) found that the mobile application TikTok posed a threat to the United States and prohibited certain transactions with respect to ByteDance Ltd. or its subsidiaries, and directed the Secretary of Commerce (Secretary) to identify transactions subject to the prohibitions. Similarly, Executive Order 13943 of August 6, 2020, “Addressing the Threat Posed by WeChat, and Taking Additional Steps To Address the National Emergency With Respect to the Information and Communications Technology and Services Supply Chain”, (85 FR 48641) found that the mobile app WeChat posed a threat to the United States and prohibited certain transactions with respect to Tencent Holdings Ltd. or its subsidiaries, and directed the Secretary to identify transactions subject to the prohibitions.

On September 18, 2020, the Department issued an Identification of Prohibited Transactions To Implement Executive Order 13942 and Address the Threat Posed by TikTok and the National Emergency With Respect to the Information and Communications Technology and Services Supply Chain. A version of this Identification (with revised dates of effectiveness) was published in the Federal Register on September 24, 2020 (85 FR 60061). Also on September 18, 2020, the Department issued an Identification of Prohibited Transactions To Implement Executive Order 13943 and Address the Threat Posed by WeChat and the National Emergency With Respect to the Information and Communications Technology and Services Supply Chain. This Identification was not published in the Federal Register, but it has remained available for public inspection on the Department's website. All prohibitions were enjoined by federal courts prior to taking effect.

On June 9, 2021, Executive Order 14034 (Protecting Americans' Sensitive Data from Foreign Adversaries) revoked Executive Orders 13942 and 3943 and required executive departments and agencies to promptly take steps to rescind any orders, rules, regulations, guidelines, or policies, or portions thereof, implementing or enforcing those Executive Orders (86 FR 31423). Accordingly, the Secretary of Commerce has rescinded the Identification of Prohibited Transactions with respect to TikTok and the Identification of Prohibited Transactions with respect to WeChat.

Authority

International Emergency Economic Powers Act, 50 U.S.C. 1701, et seq.; National Emergencies Act, 50 U.S.C. 1601 et seq.; Executive Order 14034, 86 FR 31423.

Dated: June 17, 2021.
Wynn W. Coggins,
Acting Chief Financial Officer and Assistant Secretary for Administration.

[FR Doc. 2021-13156 Filed 6-21-21; 8:45 am]

BILLING CODE 3510-20-P